NUCLEAR REGULATORY COMMISSION

Request To Amend License To Import Radioactive Waste

Pursuant to 10 CFR 110.70 (c) “Public notice of receipt of an application,” please take notice that the Nuclear Regulatory Commission (NRC) has received the following request to amend an import license. Copies of the request are available electronically through ADAMS and can be accessed through the Public Electronic Reading Room (PERR) link http://www.nrc.gov/NRC/ADAMS/index.html at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520.

Information concerning the exemption from the requirement for a specific import license is as follows:

NRC Import License Application
Name of applicant, date of application, date received, Application No., Docket No. | Description of material | End use | Country of origin
Diversified Scientific Services, Inc. (DSSI), December 22, 2006, December 28, 2006, IW004/04, 11004982 | Class A radioactive mixed waste containing tritium and carbon-14, and mixed fission product radionuclides | For processing, incineration and return of resultant residue to Canada Amend to extend the expiration date from December 31, 2006 to December 31, 2008. | Canada.

For the Nuclear Regulatory Commission.
Dated this 5th day of January 2007 at Rockville, Maryland.
Margaret M. Doane,
Deputy Director, Office of International Programs.

[FR Doc. E7-617 Filed 1-17-07; 8:45 am]

BILLING CODE 7590-01-P